DEPARTMENT OF DEFENSE

Office of the Secretary of Defense

Renewal of Department of Defense Federal Advisory Committees

AGENCY: Department of Defense.

ACTION: Renewal of Federal Advisory Committee.

SUMMARY: Under the provisions of the Federal Advisory Committee Act of 1972, (5 U.S.C. Appendix, as amended), the Sunshine in the Government Act of 1976 (5 U.S.C. 552b, as amended), and 41 CFR 102-3.65, the Department of Defense gives notice that it is renewing the charter for the Department of Defense Education Benefits Board of Actuaries (hereafter referred to as the Board).

The Board, pursuant to 10 U.S.C. 2006(e), is a non-discretionary Federal advisory committee established to: (1) Annually advise the Secretary of Defense on the actuarial status of the Department of Defense Education Benefits Fund (hereafter referred to as the Fund); (2) shall furnish its advice and opinion on matters referred to it by the Secretary; review valuations of the Fund conducted under the provisions of 10 U.S.C., § 2006(f); (3) report to the Secretary of Defense annually on the actuarial status of the Fund; and (4) recommend to the President and Congress such changes as, in the Board's judgment, are necessary to protect the public interest and maintain the Fund on a sound actuarial basis.

The Board shall be composed of not more than three members appointed by the Secretary of Defense from among qualified professional actuaries who are members of the Society of Actuaries. The members shall serve for a term of 15 years, except that a member of the Board appointed to fill a vacancy occurring before the end of the term for which the predecessor was appointed shall serve only until the end of such term. A member may serve after the end of the term until a successor has taken office. A member of the Board may be removed by the Secretary of Defense for misconduct or failure to perform functions vested in the Board, and for no other reason.

Members may not be reappointed for successive terms. The Chairperson of the Board shall be designated by the Under Secretary of Defense (Personnel and Readiness), on behalf of the Secretary of Defense, for a five-year term.

Board Members appointed by the Secretary of Defense, who are not Federal officers or employees, shall serve as Special Government Employees under the authority of 5 U.S.C. 3109, and shall, under the authority of 10 U.S.C. 2006(e)(1)(C), serve with compensation, to include travel and per diem for official travel.

The Board shall meet at the call of the Designated Federal Officer, in consultation with the Chairperson, the Secretary of Defense or the Under Secretary of Defense (Personnel & Readiness). The Designated Federal Officer shall be a full-time or permanent part-time DoD employee, and shall be appointed in accordance with established DoD policies and procedures. The Designated Federal Officer or Alternate Designated Federal Officer shall attend all Board meetings and subcommittee meetings.

The Board is authorized to establish subcommittees and workgroups, as necessary and consistent with its mission. Board subcommittees and workgroups shall operate under the provisions of Federal Advisory Committee Act of 1972, the Sunshine in the Government Act of 1976, and other appropriate Federal regulations.

Board subcommittees and workgroups shall not work independently of the Board and shall report all their recommendations and advice to the Board for full deliberation and discussion. Board subcommittees and workgroups have no authority to make decisions on behalf of the Board and may not report directly to the Department of Defense or any Federal officers or employees who are not members of the Board.

Pursuant to the Federal Advisory Committee Act of 1972 and 41 CFR 102-3.140(c), members of the public or interested groups may submit written statements to the members of the Board. Written statements may be submitted at any time to the Board's Designated Federal Officer or in response to the stated agenda of a planned meeting.

The contact information for the Designated Federal Officer for the Department of Defense Education Benefits Board of Actuaries can be obtained from the GSA's FACA Database: https://www.fido.gov/facadatabase/public.asp.

FOR FURTHER INFORMATION CONTACT: Contact Jim Freeman, Deputy Committee Management Officer for the Department of Defense, 703-601-2554.

Dated: January 3, 2008.
C.R. Choate,
Alternate OSD Federal Register Liaison Officer, Department of Defense.

[FR Doc. E8-207 Filed 1-8-08; 8:45 am]

BILLING CODE 5001-06-P